DEPARTMENT OF THE INTERIOR

Bureau of Indian Affairs

[234A2100DD/AAKC001030/A0A501010.999900]

Advisory Board of Exceptional Children; Meeting.

AGENCY: Bureau of Indian Affairs, Interior.

ACTION: Notice of meeting.

SUMMARY: The Bureau of Indian Education (BIE) is announcing that the Advisory Board for Exceptional Children will hold a two-day in-person and online meeting. The purpose of the meeting is to meet the mandates of the Individuals with Disabilities Education Act of 2004 (IDEA) for Indian children with disabilities.

DATES: The BIE Advisory Board meeting will be held Thursday, April 13, 2023, from 8 a.m. to 4:30 p.m., Mountain Standard Time (MST) and Friday, April 14, 2023, from 8 a.m. to 4:30 p.m., Mountain Standard Time (MST).

ADDRESSES:

• Meeting: All Advisory Board activities and meetings will be conducted in-person and online. The onsite meeting location will be at the Sheraton Albuquerque Uptown Hotel located at 2600 Louisiana Blvd. NE, Albuquerque, NM 87110. See the SUPPLEMENTARY INFORMATION section of this notice for information on how to join the meeting.

• Comments: Public comments can be emailed to the Designated Federal Officer (DFO) at Jennifer.davis@bie.edu; or faxed to (602) 265-0293 Attention: Jennifer Davis, DFO; or mailed or hand delivered to the Bureau of Indian Education, Attention: Jennifer Davis, DFO, 2600 N. Central Ave., 12th floor, Suite 250, Phoenix, AZ 85004.

FOR FURTHER INFORMATION CONTACT: Jennifer Davis, Designated Federal Officer, Bureau of Indian Education, 2600 N. Central Ave., 12th floor, Suite 250, Phoenix, AZ 85004, Jennifer.davis@bie.edu, or mobile phone (202) 860-7845.

Please make requests in advance for sign language interpreter services, assistive listening devices, or other reasonable accommodations at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Advisory Board was established under the Individuals with Disabilities Act of 2004 (20 U.S.C. 1400 et seq.) to advise the Secretary of the Interior, through the Assistant Secretary-Indian Affairs, on the needs of Indian children with disabilities. All meetings, including virtual sessions, are open to the public in their entirety.

Agenda

The following agenda items will be for the April 13-14, 2023, meetings. The reports are regarding special education topics:

• Indian Health Services to discuss the Memorandum of Understanding (MOU) between IHS and the BIE to support services at all levels for the children attending BIE funded schools.

• A panel discussion with a select group of Special Education Coordinators from BIE funded schools (Bureau Operated and Tribally Controlled Schools) focusing on complications and learning loss resulting from COVID-19 for children with disabilities.

• Panel discussion with a select group of School Leadership personnel from BIE funded schools (Bureau Operated and Tribally Controlled Schools) focusing on concerns related to the provision of special education services.

• Panel discussion with a select group of School Leadership operating a 4-day school schedule and the effects of a 4-day week on working parents, the impact on special education services for students with disabilities receiving services from 5 days to 4 days.

• Advisory board members will work on identifying priority topics for problems that could be creating barriers for children with disabilities within the BIE school system.

• Advisory board members will work on developing the agenda for the next board meeting scheduled for June 22-23, 2023, and September 21-22, 2023.

• Four Public Commenting Sessions will be provided during both meeting days.

○ On Thursday, April 13, 2023, two sessions (15 minutes each) will be provided, 11:30 a.m. to 11:45 a.m. MST and 2:45 p.m. to 3 p.m. MST. Public comments can be provided via webinar or telephone conference call. Please use the meeting registration link listed below.

○ On Friday, April 14, 2023, two sessions (15 minutes each) will be provided, 8:30 a.m. to 8:45 a.m. MST and 10 a.m. to 10:15 a.m. MST. Public comments can be provided during the meeting or telephone conference call. Please use the meeting registration link listed below.

Depending on the number of people who want to comment and the time available, the amount of time for individual oral comments may be limited. Requests to address the Advisory Board during the meeting will be accommodated in the order the requests are received. Individuals who wish to expand upon their oral statements, or those who had wished to speak but could not be accommodated on the agenda, may submit written comments to the Designated Federal Officer up to 30 days following the meeting. Written comments may be sent to Jennifer Davis listed in the ADDRESSES section above.

Registration

Please register at https://www.zoomgov.com/meeting/register/vJItf-CvrD0vGklWHMVVgFFxwHgMNiM5aak to attend the April 13-14, 2023, meetings.

Attendees register once and can attend one or both meeting events. After registering, you will receive a confirmation email containing information about joining the meeting

Before including your address, phone number, email address, or other personal identifying information in your comment, you should be aware that your entire comment—including your personal identifying information—may be made publicly available at any time. While you can ask us in your comment to withhold your personal identifying information from public review, we cannot guarantee that we will be able to do so.

(Authority: 5 U.S.C. 10; 20 U.S.C. 1400 et seq.)

Bryan Newland,
Assistant Secretary—Indian Affairs.

[FR Doc. 2023-05240 Filed 3-14-23; 8:45 am]

BILLING CODE 4337-15-P